Title 3—

The President

Proclamation 10744 of May 1, 2024

National Day of Prayer, 2024

By the President of the United States of America

A Proclamation

On this National Day of Prayer, we recognize the power of prayer to strengthen our spirits, draw us together, and create hope for a better tomorrow.

The right to practice our faiths freely and openly is enshrined in the Constitution and remains at the core of our American spirit. For centuries, Americans of every religion and background have come together to lift up one another and our Nation in prayer. Throughout America's history, faith and prayer have helped fuel some of the greatest moral missions of our time—from the abolition of slavery to the fight for voting rights and the Civil Rights Movement. Many of our Nation's greatest leaders have been motivated by faith to push all of us toward a more perfect Union and to bend the arc of the moral universe toward justice.

Prayer is also deeply personal: For the First Lady and me, and so many across this Nation, prayer has helped us find solace during tough times and stay grounded in good ones. Prayer has helped the bravest among us—including our Nation's service members and their caregivers, survivors, and families—summon the courage to make great sacrifices for our democracy. It has guided the hands of medical professionals, who heal our loved ones, and steeled the nerves of our first responders, who put everything on the line to keep the rest of us safe. We will never know the full impact of prayer on our Nation or the world, but we remain confident that it makes a profound difference each and every day.

Scripture tells us to rejoice in hope, be patient in tribulation, and be constant in prayer. This year, my prayer for our Nation is that we keep faith that our best days are ahead of us and continue to believe in honesty, decency, dignity, and respect. May we see each other not as enemies but as fellow human beings, each made in the image of God and each precious in His sight. May we leave no one behind, give everyone a fair shot, and give hate no safe harbor. May we remember that nothing is beyond our capacity if we act together.

The Congress, by Public Law 100-307, as amended, has called on the President to issue each year a proclamation designating the first Thursday in May as a “National Day of Prayer.”

NOW, THEREFORE, I, JOSEPH R. BIDEN JR., President of the United States of America, by virtue of the authority vested in me by the Constitution and the laws of the United States, do hereby proclaim May 2, 2024, as a National Day of Prayer. I call upon the citizens of our Nation to give thanks, in accordance with their own faith and conscience, for our many freedoms and blessings, and I invite all people of faith to join me in asking for God's continued guidance, mercy, and protection.

IN WITNESS WHEREOF, I have hereunto set my hand this first day of May, in the year of our Lord two thousand twenty-four, and of the Independence of the United States of America the two hundred and forty-eighth.

[FR Doc. 2024-09919

Filed 5-3-24; 8:45 am]

Billing code 3395-F4-P